DEPARTMENT OF COMMERCE

National Institute of Standards and Technology

National Conference on Weights and Measures 98th Annual Meeting

AGENCY: National Institute of Standards and Technology, Commerce.

ACTION: Notice.

SUMMARY: The 98th Annual Meeting of the National Conference on Weights and Measures (NCWM) will be held in Louisville, Kentucky, from July 14 to 18, 2013. This notice contains information about significant items on the NCWM Committee agendas, but does not include all agenda items. As a result, the items are not consecutively numbered.

DATES: The meeting will be held July 14 to 18, 2013.

ADDRESSES: The meeting will be held at the Seelbach Hilton Louisville, 500 Fourth Avenue, Louisville, Kentucky 40202.

FOR FURTHER INFORMATION CONTACT: Ms. Carol Hockert, Chief, NIST, Office of Weights and Measures, 100 Bureau Drive, Stop 2600, Gaithersburg, MD 20899-2600. You may also contact Ms. Hockert at (301) 975-5507 or by email at carol.hockert@nist.gov. The meetings are open to the public, but a paid registration is required. Please see NCWM Publication 16 “Annual Meeting Agenda” (www.ncwm.net) to view the meeting agendas, registration forms and hotel reservation information.

SUPPLEMENTARY INFORMATION: Publication of this notice on the NCWM's behalf is undertaken as a public service; NIST does not endorse, approve, or recommend any of the proposals or other information contained in this notice or in the publications of the NCWM.

The NCWM is an organization of weights and measures officials of the states, counties, and cities of the United States, federal agencies, and representatives from the private sector. These meetings bring together government officials and representatives of business, industry, trade associations, and consumer organizations on subjects related to the field of weights and measures technology, administration, and enforcement. NIST participates to encourage cooperation between federal agencies and the states in the development of legal metrology requirements. NIST also promotes uniformity in state laws and regulations as well as test methods and equipment that are used in the regulatory control of commercial weighing and measuring devices, packaged goods, and other trade and business practices.

The following are brief descriptions of some of the significant agenda items that will be considered at the NCWM Annual Meeting. Comments will be taken on these and other issues during several public comment sessions. At this stage, the items are proposals. This meeting also includes work sessions in which the Committees may also accept comments, and where they will finalize recommendations for possible adoption at this meeting. The Committees may also withdraw or carryover items that need additional development. Some of the items listed below provide notice of projects under development by groups working to develop specifications, tolerances, and other requirements for devices used in retail sales of electricity for recharging vehicles and in sub-metering applications, and the use of Global Positioning System (GPS) devices for fare determinations in the vehicle-for-hire industry (e.g., taxis and limousines). Also included is a notice about efforts to establish a method of sale for pressurized containers including those that use bag-on-valve technology to dispense product. These notices are intended to make interested parties aware of these development projects and to make them aware that reports on the status of the project will be given at the Annual Meeting. The notices are also presented to invite the participation of manufacturers, experts, consumers, users and others who may be interested in these efforts.

The Specifications and Tolerances Committee (S&T Committee) will consider proposed amendments to NIST Handbook 44, “Specifications, Tolerances, and other Technical Requirements for Weighing and Measuring Devices.” Those items address weighing and measuring devices used in commercial applications, that is, devices that are used to buy from or sell to the public or used for determining the quantity of product sold among businesses. Issues on the agenda of the NCWM Laws and Regulations Committee (L&R Committee) relate to proposals to amend NIST Handbook 130, “Uniform Laws and Regulations in the area of Legal Metrology and Engine Fuel Quality” and NIST Handbook 133 “Checking the Net Contents of Packaged Goods.”

NCWM Specifications and Tolerances Committee

The following items are proposals to amend NIST Handbook 44:

Scales

Item 320-1 S.6.4. Railway Track Scales and Appendix D—Definitions—Voting Item

Railway track scales are used throughout the country for the determination of freight charges and for commercial transactions for a wide variety of commodities (e.g., coal, grains, and chemicals) totaling billions of dollars each year. The purpose of this proposal is to amend NIST Handbook 44 to recognize changes to the definition of how nominal capacity is determined for railway track scales. The proposed definition was developed by Committee 34—Scales, of the American Railway Engineering and Maintenance-of-Way Association and approved for inclusion in the American Association of Railroads (AAR) Scale Handbook. Adoption of the proposed revision will ensure that NIST Handbook 44 is consistent with the AAR Scale Handbook.

Vehicle Tank Meters

Item 331-2 T.4. Product Depletion Test—Voting Item

The vehicle tank meters mounted on multi-compartment tank trucks are used to deliver a wide variety of fuels and other products to businesses and consumers (e.g., diesel fuel and home heating fuel). A product depletion test is conducted to ensure that the performance accuracy of a meter remains within tolerance when air is accidentally introduced into the metering system when, for example, one compartment in the tank truck empties of product and product delivery continues uninterrupted from another compartment. This proposal would amend NIST Handbook 44 to base the product depletion test tolerances on the meter's maximum flow rate (a marking required on all meters), rather than the marked meter size (this marking is required for meters manufactured in 2009 or later). The purpose of this proposal is to ensure consistent application of the tolerances to product depletion tests whether conducted on older or newer meters. It will also eliminate an unintentional gap that allows an unreasonably large tolerance to be applied to small meters.

Mass Flow Meters

Item 337-1 Appendix D—Definitions: Diesel Liter and Diesel Gallon Equivalents of Natural Gas—Information Item

In 1994 both liter and gallon “equivalents” for gasoline were established by the NCWM to provide a means for consumers to make value and fuel economy comparisons between compressed natural gas (CNG) and gasoline, and to promote broader acceptance and use of CNG as a vehicle fuel. These “equivalents” are based on a specific weight (mass) per volume, called the gasoline liter equivalent (GLE) and gasoline gallon equivalent (GGE), and are calculated using an estimate of the “average” equivalent energy content—a number provided by industry. The current proposal would establish a “diesel liter equivalent (DLE)” and a “diesel gallon equivalent (DGE)” and equivalent weight (mass) values for these units when they are used in retail vehicle refueling applications. The purpose of these units is to inform consumers (e.g., truck operators) that a DLE or DGE of “compressed” or “liquefied” natural gas contains approximately the same amount of energy they would receive if they purchased a liter or gallon of diesel fuel. Comments received from weights and measures officials, consumers, and industry representatives question the usefulness of expanding the use of artificially defined “energy equivalent units” primarily on the basis that they are not traceable to national measurement standards. Another concern frequently expressed over the use of an artificial unit, even by users of the GGE originally developed in the 1990s, is that they do not accurately represent the energy content in any fuel because it varies based on factors such as the source of the CNG. Commenters also noted that consumers consider many factors, including relative fuel efficiencies and cost, prior to deciding to purchase a vehicle powered by fuel such as CNG or LPG or to convert an existing vehicle to use an alternative fuel. Given the significant capital investment involved in this decision, the need to routinely make ongoing comparisons at the dispenser is questionable. Additionally, it was suggested that, with the introduction of other alternative fuels such as electricity and hydrogen into the marketplace, consumers who do wish to make ongoing comparisons will not be served by establishing an “equivalent unit” for only one fuel. Consumers might be better served by consulting with comparison information on U.S. Department of Energy and industry Web sites; such Web sites can provide “equivalent” values that are updated to reflect current product supplies for multiple different alternative fuel types as well as other educational information on fuel economies. See also Item 337-2, S.1.2. Compressed Natural Gas Dispensers, S.1.3.1.1. Compressed Natural Gas Used as an Engine Fuel, and S.5.2. Marking of Gasoline Volume Equivalent Conversion Factor, and Item 232-1, Section 2.27.

Retail Sales of Natural Gas Sold as a Vehicle Fuel in the Laws and Regulations Committee Agenda

Item 360-5 National Working Group on Taximeters—Taximeter Code Revisions and Global Positioning System-Based Systems for Time and Distance Measurement—Information Item

This item is presented to raise public awareness of the work that is underway in a NIST led working group to amend Section 5.54. “Taximeters” to incorporate specifications, tolerances, user and other technical requirements for devices with measuring technologies and systems that utilize Global Positioning Satellite (GPS) systems and associated software to compute fares or fees based upon distance and/or time measurements. The working group will also consider GPS systems and applications (e.g., smart phone applications) designed to compute fares based upon distance and/or time measurements that are being introduced into the vehicle for-hire industry (e.g., taxicabs, limousines) across the country. Appropriate technical and accuracy requirements for these devices must be developed for manufacturers and users of these devices, and for weights and measures officials. These requirements assure consumers of accurate fares associated with the transportation services and enable consumers to make value comparisons between competing services.

NCWM Laws and Regulations Committee (L & R Committee)

The following items are proposals to amend NIST Handbook 130 or NIST Handbook 133:

NIST Handbook 130—Uniform Regulation for the Method of Sale of Commodities

Item 231-2 Section 10.3. Aerosols and Similar Pressurized Containers—Information Item

This item would establish a method of sale (i.e., the product must be offered for sale by either weight or fluid volume but not both) for packages utilizing Bag on Valve (BOV) technology. A BOV container is a pressurized package where a propellant is not expelled with the product when the valve is activated. BOV packaging has been in the marketplace for several decades and is used to sell the same types of products that are offered for sale in aerosol containers (e.g., sunscreen, wound washes, shaving cream, and car products). Some BOV packages have their net contents declared in terms of fluid volume while others are labeled by net weight. Section 10.3. Aerosols and Similar Pressurized Containers of the Uniform Regulation for the Method of Sale of Commodities require aerosols and similar pressurized containers to disclose their net quantity in terms of weight. BOV containers (net contents in fluid volume) are being used to sell the same type of products dispensed from aerosol containers (net contents in weight) and consumers are unable to make value comparisons. This proposal being considered to replace the current wording in Section 10.3., and it would require packages using BOV technology to have the net quantity of contents declared in terms of weight.

10.3. Aerosols and Similar Pressurized Containers.—The declaration of quantity on an aerosol package, including Bag on Valve (BOV) technology, and other similar pressurized packages shall disclose the net quantity of the commodity (including propellant), in terms of weight, that will be expelled when the instructions for use as shown on the container are followed.

Item 232-4 Packaged Printer Ink and Toner Cartridges—Voting Item

The L&R Committee is recommending adoption of a proposal to establish a method of sale for printer ink and toner cartridges to ensure that consumers are informed about the net quantity of contents of packages to enable value comparisons. The intent of this proposal is to require manufacturers (and aftermarket refillers) to declare net quantities to facilitate both value comparison and verification by weights and measures officials, and to ensure equity between buyer and seller and fair competition between sellers, manufacturers and refillers. The following proposal to amend the Uniform Method of Sale of Commodities Regulation is under consideration:

2.XX. Printer Ink and Toner Cartridges Labeling.

2.XX.1. Definitions.

2.XX.1.1. Printer ink cartridges.—Any cartridge or module that contains ink or a similar substance in liquid form employed in the printing and/or copying of documents, papers, pictures, etc., that is used in a printing device and designed to be replaced when no longer able to supply its contents in printing and/or copying.

2.XX.1.2. Toner cartridges.—Any cartridge or module that contains toner, powder, or similar non-liquid substance employed in the copying or printing of documents, papers, pictures, etc. that is used in a printing and/or copying device and designed to be replaced when no longer able to supply its contents in printing and/or copying.

2.XX.2. Method of Sale and Labeling.

2.XX.2.1. Method of sale, Printer Ink Cartridges.—All printer ink cartridges kept, offered, or exposed for sale or sold shall be sold in terms of the count.

2.XX.2.2. Method of Sale, Toner Cartridges.—All toner cartridges kept, offered, or exposed for sale or sold shall be sold in terms of the count.

Item 232-5 Retail Sales of Electricity for Vehicle Recharging—Uniform Regulation on the Method of Sale of Commodities—Voting Item

A national working group led by NIST is developing requirements for the retail sales of electricity for vehicle recharging. The working group is comprised of device manufacturers, users, regulators, and others involved in vehicle recharging. This item contains a proposed method of sale for retail sales of electricity for vehicle recharging. Among the issues the proposal addresses, in addition to method of sale requirements, are information posting requirements (e.g., information on service fees, charging rates and how to contact the party responsible for the device). Because this item provides critical guidance to an emerging transportation industry, the complete text of the proposal is presented in this notice. The following method of sale will be considered for adoption at this meeting.

2.XX. Retail Sales of Electricity Sold as a Vehicle Fuel.

2.XX.1. Definitions.

2.XX.1.1. Electricity Sold as Vehicle Fuel.—Electrical energy transferred to and/or stored onboard an electric vehicle primarily for the purpose of propulsion.

2.XX.1.2. Electric Vehicle Supply Equipment (EVSE).—The conductors, including the ungrounded, grounded, and equipment grounding conductors; the electric vehicle connectors; attachment plugs; and all other fittings, devices, power outlets, or apparatuses installed specifically for the purpose of measuring, delivering, and computing the price of electrical energy delivered to the electric vehicle.

2.XX.1.3. Fixed Service.—Service that continuously provides the nominal power that is possible with the equipment as it is installed.

2.XX.1.4. Variable Service.—Service that may be controlled resulting in periods of reduced, and/or interrupted transfer of electrical energy.

2.XX.1.5. Nominal Power.—Refers to the “intended” or “named” or “stated” as opposed to “actual” rate of transfer of electrical energy (i.e., power).

2.XX.2. Method of Retail Sale.—All electrical energy kept, offered, or exposed for sale and sold at retail as a vehicle fuel shall be in units in terms of the megajoule (MJ) or kilowatt-hour (kWh). In addition to the fee assessed for the quantity of electrical energy sold, fees may be assessed for other services; such fees may be based on time measurement and/or a fixed fee.

2.XX.3. Retail Electric Vehicle Supply Equipment (EVSE) Labeling.

(a) A computing EVSE shall display the unit price in whole cents (e.g., $0.12) or tenths of one cent (e.g., $0.119) on the basis of price per megajoule (MJ) or kilowatt-hour (kWh). In cases where the electrical energy is unlimited or free of charge, this fact shall be clearly indicated in place of the unit price.

(b) For fixed service applications, the following information shall be conspicuously displayed or posted on the face of the device:

(1) the level of EV Service expressed as the nominal power transfer (i.e., nominal rate of electrical energy transfer), and

(2) the type of electrical energy transfer (e.g., AC, DC, wireless, etc.).

(c) For variable service applications, the following information shall be conspicuously displayed or posted on the face of the device:

(1) the type of service (i.e., “Variable”);

(2) the minimum and maximum power transfer that can occur during a transaction, including whether service can be reduced to zero;

(3) the conditions under which variations in electrical energy transfer will occur; and

(4) the type of electrical energy transfer (e.g., AC, DC, wireless, etc.).

(d) Where fees will be assessed for other services in direct connection with the fueling of the vehicle, such as fees based on time measurement and/or a fixed fee, the additional fees shall be displayed.

(e) The EVSE shall be labeled in accordance with 16 CFR, PART 309—FTC Labeling Requirements for Alternative Fuels and Alternative Fueled Vehicles.

(f) The EVSE shall be listed and labeled in accordance with the National Electric Code® (NEC) NFPA 70, Article 625 Electric Vehicle Charging Systems (www.nfpa.org).

2.XX.4. Street Sign Prices and Other Advertisements.

Where electrical energy unit price information is presented on street signs or in advertising other than on the EVSE:

(a) The electrical energy unit price shall be in terms of price per megajoule (MJ) or kilowatt-hour (kWh) in whole cents (e.g., $0.12) or tenths of one cent (e.g., $0.119). In cases where the electrical energy is unlimited or free of charge, this fact shall be clearly indicated in place of the unit price.

(b) In cases where more than one electrical energy unit price may apply over the duration of a single transaction to sales to the general public, the terms and conditions that will determine each unit price and when each unit price will apply shall be clearly displayed.

(c) For fixed service applications, the following information shall be conspicuously displayed or posted:

(1) The level of EV Service expressed as the nominal power transfer (i.e., nominal rate of electrical energy transfer), and

(2) the type of electrical energy transfer (e.g., AC, DC, wireless, etc.).

(d) For variable service applications, the following information shall be conspicuously displayed or posted:

(1) The type of delivery (i.e., “Variable”);

(2) the minimum and maximum power transfer that can occur during a transaction, including whether service can be reduced to zero;

(3) the conditions under which variations in electrical energy transfer will occur; and

(4) the type of electrical energy transfer (e.g., AC, DC, wireless, etc.).

Where fees will be assessed for other services in direct connection with the fueling of the vehicle, such as fees based on time measurement and/or a fixed fee, the additional fees shall be included on all street signs or other advertising.

All stakeholders, including vehicle and device manufacturers, consumers, public utility commissions, weights and measures officials, smart grid experts, and all others interested in the development of a method of sale and other requirements for devices used to recharge electric vehicles are invited to participate in the workgroup.

Dated: June 24, 2013.
Willie E. May,
Associate Director for Laboratory Programs.

[FR Doc. 2013-15544 Filed 6-27-13; 8:45 am]

BILLING CODE 3510-13-P